DEPARTMENT OF ENERGY

Environmental Management Site-Specific Advisory Board, Pantex

AGENCY: Department of Energy.

ACTION: Notice of open meeting; change in date and place of advisory board meeting.

SUMMARY: This notice announces a change in the date and place of the Environmental Management Site-Specific Advisory Board (EMSSAB), Pantex, meeting.

DATES: Meeting date: Tuesday, August 21, 2001, 1 p.m. to 5 p.m.

ADDRESSES: Meeting location: Carson County Square House Museum, Highway 207, Panhandle, TX.

FOR FURTHER INFORMATION CONTACT: Jerry S. Johnson, Assistant Area Manager, Department of Energy, Amarillo Area Office, P.O. Box 30030, Amarillo, TX 79120; phone (806) 477-3125; fax (806) 477-5896 or e-mail jjohnson@pantex.gov.

Issued at Washington, D.C. on August 6, 2001.
Belinda G. Hood,
Acting Deputy Advisory Committee Management Officer.

[FR Doc. 01-20079 Filed 8-9-01; 8:45 am]

BILLING CODE 6450-01-P